DEPARTMENT OF HOMELAND SECURITY

Coast Guard

[USCG-2003-14790]

National Offshore Safety Advisory Committee; charter renewal

AGENCY: Coast Guard, DHS.

ACTION: Notice.

SUMMARY: The Secretary of Transportation renewed the charter for the National Offshore Safety Advisory Committee (NOSAC) for 2 years from January 17, 2003 until January 17, 2005. This charter was renewed before the Coast Guard moved to the Department of Homeland Security under the Homeland Security Act of 2002. NOSAC is a Federal advisory committee under 5 U.S.C. App. 2. It advises the Coast Guard on safety, security and environmental protection issues relating to the offshore mineral and energy industries.

ADDRESSES: You may request a copy of the charter by writing to Commandant (G-MSO), U.S. Coast Guard, 2100 Second Street SW., Washington, DC 20593-0001; by calling 202-267-0214; or by faxing 202-267-4570. This notice and the charter are available on the Internet at http://dms.dot.gov.

FOR FURTHER INFORMATION CONTACT: Captain Michael Brown, Executive Director of NOSAC, or Mr. Jim Magill, Assistant to the Executive Director, telephone 202-267-1082, fax 202-267-4570.

Dated: March 26, 2003.
Joseph J. Angelo,
Director of Standards, Marine Safety, Security and Environmental Protection.

[FR Doc. 03-7994 Filed 4-1-03; 8:45 am]

BILLING CODE 4910-15-P